FEDERAL COMMUNICATIONS COMMISSION

47 CFR Part 73

Radio Broadcast Services

CFR Correction

In Title 47 of the Code of Federal Regulations, parts 70 to 79, revised as of October 1, 2000, § 73.3555 is corrected by revising paragraphs (e)(2)(i) and (e)(2)(ii) and the first sentence of Note 5 to read as follows:

§ 73.3555 Multiple ownership.

* * * * *

(e) * * *

(2) * * *

(i) National audience reach means the total number of television households in the Nielsen Designated Market Area (DMA) markets in which the relevant stations are located divided by the total national television households as measured by DMA data at the time of a grant, transfer, or assignment of a license. For purposes of making this calculation, UHF television stations shall be attributed with 50 percent of the television households in their DMA market.

(ii) No market shall be counted more than once in making this calculation.

* * * * *

Note 5: Paragraphs (a) through (d) of this section will not be applied to cases involving television stations that are “satellite” operations. * * *

* * * * *

[FR Doc. 01-55514 Filed 4-17-01; 8:45 am]

BILLING CODE 1505-01-D